DEPARTMENT OF TRANSPORTATION

National Highway Traffic Safety Administration

[Docket No. NHTSA-2019-0101]

Federal Advisory Committee National Emergency Medical Services Advisory Council; Notice of Meeting

AGENCY: National Highway Traffic Safety Administration (NHTSA), U.S. Department of Transportation (DOT).

ACTION: Meeting notice—National Emergency Medical Services Advisory Council.

SUMMARY: NHTSA announces a meeting of the National Emergency Medical Services Advisory Council (NEMSAC) to be held at DOT Headquarters in Washington, DC. This notice announces the date, time, and location of the meeting, which will be open to the public, as well as provide opportunities for public input to the NEMSAC. The purpose of NEMSAC, a nationally recognized council of emergency medical services representatives and consumers, is to advise and consult with DOT and the Federal Interagency Committee on Emergency Medical Services (FICEMS) on matters relating to emergency medical services (EMS).

DATES: The NEMSAC meeting will be held on January 14, 2020, from 9 a.m. to 5 p.m. EDT, on January 15, 2020, from 9 a.m. to 12 p.m. EDT and on January 16, 2020 from 9 a.m. to 4 p.m. EDT. Pre-registration is requested no later than January 6, 2020, 5 p.m. EDT. A public comment period will take place on January 14, 2020, between 2 p.m. and 2:30 p.m. EDT, January 15, 2020, between 11 a.m. and 11:30 a.m. EDT and January 16, 2020, between 11 a.m. and 11:30 a.m. EDT. Requests to speak during the meeting must submit a written copy of their remarks to DOT by January 6, 2020. Written comments may be submitted to the committee at any time. If you wish for the committee to review the comments before the meeting, submit them no later than January 6, 2020. Requests for accommodations to a disability must be received by January 6, 2020. Meeting materials will also be available to the public online on or before January 6, 2020.

ADDRESSES: The meetings will be held at the DOT Headquarters, 1200 New Jersey Avenue SE, Washington, DC 20590. Written comments may be submitted by either one of the following methods: (1) You may submit comments by email: nemsac@dot.gov or (2) you may submit comments by fax: 202-366-7149. Teleconference and webcast information for this meeting will be posted on www.EMS.gov. Meeting materials will also be available to the public on www.EMS.gov.

FOR FURTHER INFORMATION CONTACT: Eric Chaney, DOT, Office of Emergency Medical Services, 1200 New Jersey Avenue SE, NPD-400, Washington, DC 20590, EricChaney@dot.gov or 202-366-0257. Please contact Eric for registration and all meeting related inquires.

SUPPLEMENTARY INFORMATION: Notice of the NEMSAC meeting is given under the Federal Advisory Committee Act, Pub. L. 92-463, as amended (5 U.S.C. App. 2). The NEMSAC is authorized under Section 31108 of the Moving Ahead with Progress in the 21st Century Act of 2012.

Tentative Agenda of the National EMS Advisory Council Meeting

The NEMSAC agenda includes the following:

Tuesday, January 14, 2020 (9 a.m. to 5 p.m. EDT)

(1) Call to Order, Introductions, and Opening Remarks (9 a.m. to 9:30 a.m. EDT)

(2) Approval of September 2019 NEMSAC Meeting Minutes (9:30 a.m. to 9:45 a.m. EDT)

(3) Federal Liaison Update (9:45 a.m. to 10 a.m. EDT)

(4) EMS Personnel Safety (10 a.m. to 10:45 a.m. EDT)

(5) Break (10:45 a.m. to 11 a.m. EDT)

(6) FICEMS Strategic Plan Update/Revision (11 a.m. to 12 p.m. EDT)

(7) Lunch (12 p.m. to 1:15 p.m. EDT)

(8) CMS Emergency Triage, Treat and Transport (ET3) Model (1:15 p.m. to 2 p.m. EDT)

(9) Public Comment (2 p.m. to 2:30 p.m. EDT)

(10) Review of Ongoing NHTSA Projects (2:30 p.m. to 3 p.m. EDT)

(11) Nomenclature of the EMS Profession—White Paper Update (3 p.m. to 4 p.m. EDT)

(12) NFPA 451 Community Health Programs (4 p.m. to 4:45 p.m. EDT)

(13) Review of Action Items (4:45 p.m. to 5 p.m. EDT)

Wednesday, January 15, 2020 (9 a.m. to 5 p.m. EDT)

(1) Reconvene and Instructions (9 a.m. to 9:15 a.m. EDT)

(2) Review of EMS Nomenclature and National EMS Education Standards Revision (9:15 a.m. to 10 a.m. EDT)

(3) FARS Presentation (10 a.m. to 11 a.m. EDT)

(4) Public Comment (11 a.m. to 11:30 a.m. EDT)

(5) NHTSA Updates (11:30 a.m. to 12 p.m. EDT)

Thursday, January 16, 2020 (9 a.m. to 4 p.m. EDT)

(1) Committee Instructions (9 a.m. to 9:15 a.m. EDT)

(2) Committee Reports and Discussion of NEMSAC Recommendations and Advisories for 2019—2020 (9:15 a.m. to 11 a.m. EDT)

(3) Public Comment (11 a.m. to 11:30 a.m. EDT)

(4) Lunch (11:30 a.m. to 12:30 p.m. EDT)

(5) Action on Proposed Advisories (12:30 p.m. to 3:45 p.m. EDT)

(6) Review of Action Items and Wrap-Up (3:45 p.m. to 4 p.m. EDT)

Public Participation: The meeting will be open to the public on a first-come, first served basis, as space is limited. Members of the public who wish to attend in person must register with the person listed in the FOR FURTHER INFORMATION CONTACT section with your name and affiliation. Members of the public are encouraged to comment directly to the NEMSAC during designated public comment periods. Attendees should plan to arrive 10-15 minutes early to clear security. In order to allow as many people as possible to speak, speakers are requested to limit their remarks to 5 minutes. Written comments from members of the public will be distributed to NEMSAC at the meeting.

NHTSA is committed to providing equal access to this meeting for all participants. If you need alternative formats or services because of a disability, please contact Eric Chaney at the email or phone number listed in the FOR FURTHER INFORMATION CONTACT section with your request by January 10, 2020.

Authority: 44 U.S.C. Section 3506(c)(2)(A).

Issued in Washington, DC.
Jon Krohmer,
Associate Administrator, Acting Research and Program Development.

[FR Doc. 2019-28147 Filed 12-27-19; 8:45 am]

BILLING CODE 4910-59-P